DEPARTMENT OF STATE

[Public Notice 4704]

Shipping Coordinating Committee, Facilitation Committee; Notice of Meeting

The Shipping Coordinating Committee (SHC) will conduct an open meeting at 9:30 a.m. on Tuesday, June 22, 2004, in Room 1303 of the United States Coast Guard Headquarters building, 2100 Second Street SW., Washington, DC 20593-0001. The primary purpose of the meeting is to prepare for the thirty-first session of the Facilitation Committee (FAL 31) of the International Maritime Organization (IMO), to be held from July 19 to 23, 2004, at IMO Headquarters in London, England.

The primary matters for discussion for FAL 31 will include the following:

• Convention on Facilitation of International Maritime Traffic

• Consideration and adoption of proposed amendments to the Annex to the Convention

• Electronic means for the clearance of ships

• Application of the Committee's Guidelines

• General review of the Convention including harmonization with other international instruments

• Measure to enhance maritime security—Facilitation aspects

• Measures and procedures for the treatment of people rescued at sea—Facilitation aspects

• Formalities connected with the arrival, stay and departure of ships

• Formalities connected with the arrival, stay and departure of persons—Stowaways

• Ship/port interface

• Facilitation aspects of other IMO forms and certificates

• Technical co-operation sub-programme for facilitation

Please note that hard copies of documents associated with FAL 31 will not be available at this meeting. Documents will be available in Adobe Acrobat format on CD-ROM. To request documents, please contact Mr. David Du Pont via e-mail at DDuPont@comdt.uscg.mil or write to the address provided below.

Members of the public may attend this meeting up to the seating capacity of the room. Interested persons may seek information by writing to Mr. David Du Pont, Commandant (G-MSR), U.S. Coast Guard Headquarters, 2100 Second Street SW., Room 1400, Washington, DC 20593-0001 or by calling (202) 267-0971.

Dated: May 12, 2004.
Margaret F. Hayes,
Chairman, Shipping Coordinating Committee, Department of State.

[FR Doc. 04-11417 Filed 5-19-04; 8:45 am]

BILLING CODE 4710-07-P